DEPARTMENT OF THE INTERIOR

Bureau of Reclamation

Notice of Availability and Public Hearings for the Red River Valley Water Supply Project Draft Environmental Impact Statement

AGENCY: Bureau of Reclamation, Interior.

ACTION: Notice of Availability and Notice of Pubic Hearings INT-DES-05-79.

SUMMARY: The Bureau of Reclamation (Reclamation) and the State of North Dakota, represented by the Garrison Diversion Conservancy District (Garrison Diversion), have as joint lead agencies prepared the Red River Valley Water Supply Project Draft Environmental Impact Statement (DEIS). The DEIS was prepared in cooperation with the cities of Fargo, West Fargo, and Grand Forks, North Dakota and Moorhead, Minnesota, the Lake Agassiz Water Authority, North Dakota State Historic Preservation Office, Minnesota Department of Natural Resources, U.S. Army Corps of Engineers, U.S. Fish and Wildlife Service, U.S. Geological Survey, U.S. Forest Service, and U.S. Environmental Protection Agency, and pursuant to section 8(c) of the Dakota Water Resources Act of 2000 (DWRA) and section 102(2)(c) of the National Environmental Policy Act of 1969 (NEPA), as amended.

The DEIS analyzes the environmental, cultural, and socioeconomic effects of eight alternatives. Seven alternatives would meet the water needs in the Red River Valley of North Dakota, and the cities of Breckenridge, Moorhead, and East Grand Forks in Minnesota, through 2050. The document also discloses the effects of no action, or the future without implementing the federal Red River Valley Water Supply Project.

DATES: A 60-day public review period commences with the publication of this notice. Written comments on the DEIS are due by February 28, 2006, and should be submitted to Reclamation at the address given below.

Public hearings will be held during February in North Dakota and Minnesota. See the Supplementary Information section for dates of the public hearings.

ADDRESSES: Written comments should be submitted to: Bureau of Reclamation, Attn: Signe Snortland, Dakotas Area Office, P.O. Box 1017, Bismarck ND 58502.

See SUPPLEMENTARY INFORMATION section for meeting addresses.

FOR FURTHER INFORMATION CONTACT: Signe Snortland, Red River Valley Water Supply Project EIS, Bureau of Reclamation, Dakotas Area Office, P.O. Box 1017, Bismarck ND 58502; Telephone: (701) 250-4242 extension 3619; or Fax to (701) 250-4326. You may submit e-mail to ssnortland@gp.usbr.gov or access the Red River Valley Water Supply Project Web site at http://www.rrvwsp.com.

SUPPLEMENTARY INFORMATION:

Public Hearing Dates:

• Thursday, February 2, 2006, 7 p.m., Bismarck, North Dakota

• Tuesday, February 7, 2006, 7 p.m., Grand Forks, North Dakota

• Wednesday, February 8, 2006, 7 p.m., Warroad, Minnesota

• Thursday, February 9, 2006, 7 p.m., Valley City, North Dakota

• Wednesday, February 15, 2006, 7 p.m., Fargo, North Dakota

• Thursday, February 16, 2006, 7 p.m., Perham, Minnesota

• Friday, February 17, 2006, 1 p.m., Red Lake, Minnesota

Public Hearing Locations:

• Bismarck—Best Western Doublewood Inn, 1400 E. Interchange Avenue, Bismarck, North Dakota

• Grand Forks—Holiday Inn, 1210 N. 43rd Street, Grand Forks, North Dakota

• Warroad—Warroad Public School Theatre, 510 Cedar Avenue, Warroad, Minnesota

• Valley City—AmericInn, 280 Winter Show Road SE., Valley City, North Dakota

• Fargo—Ramada Plaza Suites and Conference Center, 1635 42nd Street, SW., Fargo, North Dakota

• Perham—Lakeside Golf Club, 2727 450th Street, Perham, Minnesota

• Red Lake—Red Lake Community Center, 15041 Great Nation Drive, Highway 1, Adjacent to the Seven Clans Casino, Red Lake, Minnesota

Public Review Locations

Copies of the DEIS are available for public review at the following locations:

Iowa

• Des Moines Public Library, 100 Locust Street, Des Moines, Iowa

Kansas

• Topeka and Shawnee County Public Library, 1515 SW. 10th Street, Topeka, Kansas

Minnesota

• Breckenridge Public Library, 205 7th Street North, Breckenridge, Minnesota

• East Grand Forks Public Library, 422 4th Street Northwest, East Grand Forks, Minnesota

• Moorhead Public Library, 118 5th Street South, Moorhead, Minnesota

• Perham Area Public Library, 225 2nd Avenue Northeast, Perham, Minnesota

• Red Lake Band of Chippewa Indians, PO Box 550, Red Lake, Minnesota

• St. Paul Public Library, 90 West 4th Street, St. Paul, Minnesota

• Warroad City Library, 202 Main Avenue Northwest, Warroad, Minnesota

• White Earth Reservation, 26246 Crane Road, White Earth, Minnesota

Missouri

• Kansas City Public Library, 14 West 10th Street, Kansas City, Missouri

• Missouri River Regional Library, 214 Adams Street, Jefferson City, Missouri

Montana

• Bureau of Reclamation, Great Plains Regional Office, 316 N. 26th Street, Billings, Montana

Nebraska

• Lincoln City Libraries, 136 South 14th Street, Lincoln, Nebraska

North Dakota

• Alfred Dickey Public Library, 105 3rd Street Southeast, Jamestown, North Dakota

• Bureau of Indian Affairs, Turtle Mountain Agency, PO Box 60, Belcourt/Highway 5 West, North Dakota

• Bureau of Indian Affairs, Fort Berthold Agency, 202 Main Street, New Town, North Dakota

• Bureau of Indian Affairs, Fort Totten Agency, PO Box 270/Main Street, Fort Totten, North Dakota

• Bureau of Reclamation, Dakotas Area Office, 304 E. Broadway Avenue, Bismarck, North Dakota

• Fargo Public Library, 102 3rd Street North, Fargo, North Dakota

• Garrison Diversion Conservancy District, 401 Highway 281 Northeast, Carrington, North Dakota

• Grand Forks Public Library, 2110 Library Circle, Grand Forks, North Dakota

• Leach Public Library, 417 2nd Avenue North, Wahpeton, North Dakota

• North Dakota State Library, 603 East Boulevard Avenue, Bismarck, North Dakota

• Standing Rock Administrative Service Center, Building #1, North Standing Rock Avenue, Fort Yates, North Dakota

• West Fargo Public Library, 109 3rd Street East, West Fargo, North Dakota

South Dakota

• Bureau of Indian Affairs, Sisseton Agency, Veterans Memorial D, Agency Village, South Dakota

• South Dakota State Library, 800 Governors Drive, Pierre, South Dakota

Province of Manitoba

• Millennium Library, 251 Donald Street, Winnipeg, Manitoba, Canada

Province of Ontario

• Kenora Branch Library, 24 Main Street South, Kenora, Ontario, Canada

Background

In 1944, the U.S. Congress passed the Flood Control Act (the Missouri-Basin Pick Sloan Act), which authorized the construction of dams on the Missouri River and its tributaries. The Garrison Diversion Unit (GDU) was authorized in 1965, and construction began in 1967. The project was designed to divert Missouri River water to central and eastern North Dakota for irrigation; fish and wildlife enhancement; municipal, rural, and industrial (MR&I) water supply; and recreation development. Most of the currently authorized principal supply works have been completed, except for about a 20-mile reach between the end of the McClusky Canal and beginning of the New Rockford Canal.

The project was reformulated in 1986 to reduce the emphasis on irrigation and increase the emphasis on meeting the MR&I water needs throughout North Dakota. The 1986 Reformulation Act authorized a Sheyenne River water supply and release feature and water treatment plant capable of delivering 100 cubic feet per second of water to eastern North Dakota.

The GDU authorization was amended again in December 2000 by DWRA. Among other things, DWRA states that, “the Secretary of the Interior shall conduct a comprehensive study of the water quality and quantity needs of the Red River Valley in North Dakota and possible options for meeting those needs” (Section 8(b)(1)). In addition, the DWRA states that, “pursuant to an agreement between the Secretary and State of North Dakota as authorized under section 1(g) * * * the Secretary and the State of North Dakota shall jointly prepare and complete a draft environmental impact statement concerning all feasible options to meet the comprehensive water quality and quantity needs of the Red River Valley and the options for meeting those needs” (Section 8(c)(2)(A)).

DWRA also states, “the Secretary shall maintain the Snake Creek Pumping Plant, New Rockford Canal, and McClusky Canal features of the principal supply works. Subject to the provisions of section (8) of this Act, the Secretary shall select a preferred alternative to implement the Dakota Water Resources Act of 2000. In making this selection, one of the alternatives the Secretary shall consider is whether to connect the principal supply works in existence on the date of enactment” [Section 5(a)(5)].

Purpose and Need for the Federal Action

The purpose of the action proposed in this DEIS is to meet the “comprehensive water quality and quantity needs of the Red River Valley” [DWRA Section 8(c)(2)(A)] through year 2050. The quality and quantity needs are defined by DWRA as MR&I supplies, water quality, aquatic environment, recreation, and water conservation measures [DWRA Section 8(b)(2)].

Alternatives

Eight alternatives are evaluated in the DEIS including three in-basin alternatives, four Missouri River import alternatives, and no action. All of the proposed pipelines in these alternatives would be buried. Reclamation has not identified a preferred alternative at this time. The Garrison Diversion Unit (GDU) Import to Sheyenne River Alternative is the State of North Dakota's preferred alternative. The alternatives are:

• No Action Alternative. This alternative represents the reasonably foreseeable future condition if the federal Red River Valley Water Supply Project is not constructed.

• North Dakota In-Basin. This in-basin alternative would use surface and groundwater sources primarily within the Red River Valley of North Dakota to meet shortages. The primary feature would capture flows in the Red River downstream of Grand Forks and would recirculate flows back to Lake Ashtabula via pipeline.

• Red River Basin. For this alternative, in-basin surface water and groundwater from the Red River Basin in Minnesota and North Dakota would be used to meet shortages. The primary feature would be a new well field and pipeline network in Otter Tail County, Minnesota.

• Lake of the Woods. This in-basin alternative would transport water via pipeline from Lake of the Woods, Minnesota, to the Red River Valley, and also use water sources in North Dakota to meet water shortages.

• GDU Import to Sheyenne River. This import alternative would meet water shortages by transporting Missouri River water through the GDU Principal Supply Works to the Sheyenne River via pipeline. Water would be treated at the end of the McClusky Canal using coagulation, flocculation, sedimentation and ultraviolet disinfection. Water would be further treated to SDWA (Safe Drinking Water Act) standards at treatment plants in the Red River Valley. The Sheyenne and Red Rivers would be used to convey water further in the basin. The Principal Supply Works include the Snake Creek Pumping Plant on Lake Sakakawea, Audubon Lake, and McClusky Canal.

• GDU Import Pipeline. This import alternative would use the GDU Principal Supply Works and a pipeline system to convey treated Missouri River water directly to the local water systems in the Red River Valley to meet water shortages. Water would be treated at the end of the McClusky Canal using coagulation, flocculation, sedimentation and ultraviolet disinfection. Water would be further treated to SDWA standards at treatment plants in the Red River Valley.

• Missouri River Import to Red River Valley. This import alternative would use a pipeline from the Missouri River south of Bismarck, North Dakota, to import treated water to Fargo, Grand Forks, and Lake Ashtabula. Water would be treated at the source using coagulation, flocculation, sedimentation and ultraviolet disinfection. Water would be further treated to SDWA standards at treatment plants in the Red River Valley. Water delivered to Lake Ashtabula in off peak times would be stored for later release to downstream users to meet water shortages.

• GDU Water Supply Replacement Pipeline. This import alternative would use the GDU Principal Supply Works and pipelines to replace existing MR&I water supplies in the service area with potable, imported Missouri River water. Water would be treated to SDWA standards at the source.

Public Disclosure Statement

Comments received in response to this notice will become part of the administrative record for this project and are subject to public inspection. Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Dated: December 21, 2005.
Donald E. Moomaw,
Assistant Regional Director, Great Plains Region.

[FR Doc. 05-24646 Filed 12-29-05; 8:45 am]

BILLING CODE 4310-MN-P